DEPARTMENT OF LABOR

Employment and Training Administration

[TA-W-64,718]

TAC Automotive, Flint, MI; Notice of Termination of Investigation

In accordance with Section 221 of the Trade Act of 1974, as amended, an investigation was initiated on December 17, 2008 in response to a petition filed on behalf of workers of TAC Automotive, Flint Michigan.

The petitioners are included in amended certifications issued for on-site leased workers of TAC Automotive at Delphi Corporation, Dayton, Ohio, under petition numbers TA-W-62,273, TA-W-62,273A and TA-W-62,273B.

Consequently further investigation would serve no purpose and the petition investigation is terminated.

Signed in Washington, DC, this 13th day of January 2009.
Linda G. Poole,
Certifying Officer, Division of Trade Adjustment Assistance.

[FR Doc. E9-1497 Filed 1-23-09; 8:45 am]

BILLING CODE 4510-FN-P